DEPARTMENT OF HEALTH AND HUMAN SERVICES

Food and Drug Administration

[Docket No. 01F-0026]

Avecia, Inc.; Withdrawal of Food Additive Petition

AGENCY: Food and Drug Administration, HHS.

ACTION: Notice.

SUMMARY: The Food and Drug Administration (FDA) is announcing the withdrawal, without prejudice to a future filing, of a food additive petition (FAP 1B4726) proposing that the food additive regulations be amended to provide for the safe use of poly(hexamethylenebiguanide) hydrochloride as a preservative for food-contact paper coating formulations.

FOR FURTHER INFORMATION CONTACT: Mark A. Hepp, Center for Food Safety and Applied Nutrition (HFS-215), Food and Drug Administration, 200 C St. SW., Washington, DC 20204, 202-418-3098.

SUPPLEMENTARY INFORMATION: In a notice published in the Federal Register of January 23, 2001 (66 FR 7498), FDA announced that a food additive petition (FAP 1B4726) had been filed by Avecia, Inc., 1405 Foulk Rd., P.O. Box 15457, Wilmington, DE 19850-5457. The petition proposed to amend the food additive regulations in § 176.170 Components of paper and paperboard in contact with aqueous and fatty foods (21 CFR 176.170) and § 176.180 Components of paper and paperboard in contact with dry food (21 CFR 176.180) to provide for the safe use of poly(hexamethylenebiguanide) hydrochloride as a preservative for food-contact paper coating formulations. Avecia, Inc., has now withdrawn the petition without prejudice to a future filing (21 CFR 171.7).

Dated: February 14, 2001.
Alan M. Rulis,
Director, Office of Premarket Approval, Center for Food Safety and Applied Nutrition.

[FR Doc. 01-4848 Filed 2-27-01; 8:45 am]

BILLING CODE 4160-01-F